DEPARTMENT OF ENERGY

Federal Energy Regulatory Commission

[Project No. 14879-000]

Notice of Preliminary Permit Application Accepted for Filing and Soliciting Comments, Motions To Intervene, and Competing Applications: Go With the Flow Hydro Power, LLC

On June 8, 2018, Go With the Flow Hydro Power, LLC (Go With the Flow) filed an application for a preliminary permit, pursuant to section 4(f) of the Federal Power Act, proposing to study the feasibility of the Go With the Flow Hydroelectric Project (project) to be located on the Umatilla River about 8.7 river miles upstream from the confluence with the Columbia River, and 2.1 miles west southwest of Hermiston in Umatilla county, Oregon. On July 11, 2018, the applicant filed an amended permit application for the project. The sole purpose of a preliminary permit, if issued, is to grant the permit holder priority to file a license application during the permit term. A preliminary permit does not authorize the permit holder to perform any land-disturbing activities or otherwise enter upon lands or waters owned by others without the owners' express permission.

The proposed project will be at the site of the existing, abandoned Jim Boyd Hydroelectric Project (P-7269). The license for the Jim Boyd Project was terminated in 2011, and Go With the Flow has purchased these facilities. The proposed run-of-river project will involve rehabilitation and upgrade of the following existing facilities: A 3.5-foot-high concrete diversion weir; a canal intake with trashracks and fish screens; A 5,350-foot-long power canal; four 5-foot-diameter, 280-foot-long steel penstocks; a powerhouse with 4 turbine/generators with rated capacity of 300 kilowatts (kW) each for a total capacity of 1,200 kW; a 60-foot-wide, 20 foot-long concrete-lined tailrace; a 0.25-mile-long, 12.47 kilovolt transmission line; and access roads.

The estimated averaged annual generation of the project would be 3 gigawatt-hours and would be conveyed from the powerhouse to the existing Pacific Power and Light Company substation.

Applicant Contact: Mark Sigl, Go With the Flow Hydro Power, LLC, 8021 Firestone Way, Antelope, CA 95843, phone (916) 812-5051.

FERC Contact: Kim Nguyen, (202) 502-6105.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14879-000.

More information about this project, including a copy of the application, can be viewed or printed on the “eLibrary” link of Commission's website at http://www.ferc.gov/docs-filing/elibary.asp. Enter the docket number (P-14879) in the docket number field to access the document. For assistance, contact FERC Online Support.

Dated: July 24, 2018.
Kimberly D. Bose,
Secretary.

[FR Doc. 2018-16232 Filed 7-27-18; 8:45 am]

BILLING CODE 6717-01-P